DEPARTMENT OF COMMERCE

Foreign-Trade Zones Board

[B-73-2018]

Foreign-Trade Zone (FTZ) 41—Milwaukee, Wisconsin; Notification of Proposed Production Activity, Jeneil Biotech, Inc. (Natural Fragrance Intermediates), Saukville, Wisconsin

The Port of Milwaukee, grantee of FTZ 41, submitted a notification of proposed production activity to the FTZ Board on behalf of Jeneil Biotech, Inc. (Jeneil), located in Saukville, Wisconsin. The notification conforming to the requirements of the regulations of the FTZ Board (15 CFR 400.22) was received on September 27, 2018.

The Jeneil facility is located within Site 16 of FTZ 41. The facility is used for the biotransformation of a plant-derived raw material into a natural fragrance intermediate molecule. Pursuant to 15 CFR 400.14(b), FTZ activity would be limited to the specific foreign-status material/component and specific finished product described in the submitted notification (as described below) and subsequently authorized by the FTZ Board.

Production under FTZ procedures could exempt Jeneil from customs duty payments on the foreign-status component used in export production. On its domestic sales, for the foreign-status material/component noted below, Jeneil would be able to choose the duty rate during customs entry procedures that applies to sclareolide (off-white powder) (duty rate 3.7%). Jeneil would be able to avoid duty on foreign-status components which become scrap/waste. Customs duties also could possibly be deferred or reduced on foreign-status production equipment.

The component/material sourced from abroad is sclareol (off-white powder) (duty rate 5.5%).

Public comment is invited from interested parties. Submissions shall be addressed to the Board's Executive Secretary at the address below. The closing period for their receipt is December 26, 2018.

A copy of the notification will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Elizabeth Whiteman at Elizabeth.Whiteman@trade.gov or (202) 482-0473.

Dated: November 9, 2018.
Elizabeth Whiteman,
Acting Executive Secretary.

[FR Doc. 2018-25062 Filed 11-15-18; 8:45 am]

BILLING CODE 3510-DS-P